DEPARTMENT OF ENERGY

Federal Energy Regulatory Commission

Combined Notice of Filings #1

Take notice that the Commission received the following electric corporate filings:

Docket Numbers: EC21-131-000.

Applicants: Sierra Pacific Power Company, Apple Inc.

Description: Joint Application for Authorization Under Section 203 of the Federal Power Act of Sierra Pacific Power Company, et al.

Filed Date: 9/8/21.

Accession Number: 20210908-5144.

Comment Date: 5 p.m. ET 9/29/21.

Take notice that the Commission received the following exempt wholesale generator filings:

Docket Numbers: EG21-244-000.

Applicants: Entergy Services, LLC, AR Searcy Project Company, LLC.

Description: Notice of Self-Certification of Exempt Wholesale Generator Status of AR Searcy Project Company, LLC.

Filed Date: 9/7/21.

Accession Number: 20210907-5218.

Comment Date: 5 p.m. ET 9/28/21.

Docket Numbers: EG21-245-000.

Applicants: RWE Renewables Americas, LLC, El Algodon Alto Wind Farm, LLC.

Description: Notice of Self-Certification of Exempt Wholesale Generator Status of El Algodon Alto Wind Farm, LLC.

Filed Date: 9/9/21.

Accession Number: 20210909-5114.

Comment Date: 5 p.m. ET 9/30/21.

Docket Numbers: EG21-246-000.

Applicants: RWE Renewables Americas, LLC, Blackjack Creek Wind Farm, LLC.

Description: Notice of Self-Certification of Exempt Wholesale Generator Status of Blackjack Creek Wind Farm, LLC.

Filed Date: 9/9/21.

Accession Number: 20210909-5117.

Comment Date: 5 p.m. ET 9/30/21.

Docket Numbers: EG21-247-000.

Applicants: RWE Renewables Americas, LLC, Big Star Solar, LLC.

Description: Notice of Self-Certification of Exempt Wholesale Generator Status of Big Star Solar, LLC.

Filed Date: 9/9/21.

Accession Number: 20210909-5125.

Comment Date: 5 p.m. ET 9/30/21.

Take notice that the Commission received the following electric rate filings:

Docket Numbers: ER21-1635-002.

Applicants: PJM Interconnection, L.L.C.

Description: Compliance filing: Compliance Filing re Black Start Revisions to Tariff, Schedule 6A to be effective 6/6/2021.

Filed Date: 9/9/21.

Accession Number: 20210909-5097.

Comment Date: 5 p.m. ET 9/30/21.

Docket Numbers: ER21-2557-000.

Applicants: Aron Energy Prepay 5 LLC.

Description: Supplement to July 29, 2021 Aron Energy Prepay 5 LLC tariff filing.

Filed Date: 9/7/21.

Accession Number: 20210907-5215.

Comment Date: 5 p.m. ET 9/28/21.

Docket Numbers: ER21-2712-000.

Applicants: Heartland Generation Ltd.

Description: Supplement to August 19, 2021 Heartland Generation Ltd. tariff filing.

Filed Date: 9/8/21.

Accession Number: 20210908-5143.

Comment Date: 5 p.m. ET 9/29/21.

Docket Numbers: ER21-2856-000.

Applicants: PJM Interconnection, L.L.C.

Description: § 205(d) Rate Filing: Original ISA, Service Agreement 6167; Queue No. AE1-101 to be effective 8/11/2021.

Filed Date: 9/9/21.

Accession Number: 20210909-5038.

Comment Date: 5 p.m. ET 9/30/21.

Docket Numbers: ER21-2857-000.

Applicants: Dominion Energy South Carolina, Inc.

Description: § 205(d) Rate Filing: SCPSA IA Amendment to be effective 11/19/2021.

Filed Date: 9/9/21.

Accession Number: 20210909-5061.

Comment Date: 5 p.m. ET 9/30/21.

Docket Numbers: ER21-2858-000.

Applicants: PJM Interconnection, L.L.C.

Description: § 205(d) Rate Filing: CRA, SA No. 6161; Non-Queue No. NQ-170 to be effective 8/11/2021.

Filed Date: 9/9/21.

Accession Number: 20210909-5075.

Comment Date: 5 p.m. ET 9/30/21.

Docket Numbers: ER21-2859-000.

Applicants: Alabama Power Company.

Description: Tariff Amendment: Brother Solar LGIA Termination Filing to be effective 9/9/2021.

Filed Date: 9/9/21.

Accession Number: 20210909-5083.

Comment Date: 5 p.m. ET 9/30/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 9, 2021.
Debbie-Anne A. Reese,
Deputy Secretary.

[FR Doc. 2021-19887 Filed 9-14-21; 8:45 am]

BILLING CODE 6717-01-P